GENERAL SERVICES ADMINISTRATION

[Notice-PBS-2022-03; Docket No. 2022-0002; Sequence No. 17]

Notice of Intent To Prepare an Environmental Impact Statement (EIS) for the Expansion and Modernization of the Raul Hector Castro Land Port of Entry and Proposed Commercial Land Port of Entry in Douglas, Arizona

AGENCY: Public Buildings Service (PBS), General Services Administration (GSA).

ACTION: Notice of intent; announcement of meeting.

SUMMARY: Pursuant to the requirements of the National Environmental Policy Act of 1969 (NEPA), the Council on Environmental Quality Regulations, and the GSA Public Buildings Service NEPA Desk Guide, GSA is issuing this notice to advise the public that an Environmental Impact Statement (EIS) will be prepared to analyze potential environmental impacts from the expansion and modernization of the Raul Hector Castro (RHC) Land Port of Entry (LPOE) and construction of a new commercial LPOE in Douglas, Arizona to address traffic safety and hazard concerns resulting from space constraints, inefficient traffic flows, and increasing traffic demands.

DATES: Public Scoping—The Public Scoping Period will begin on July 14th, 2022. Interested parties are encouraged to provide written comments regarding the scope of the EIS. Written comments must be received by August 22, 2022 (see ADDRESSES section for where to submit comments).

Meeting Date—A public scoping meeting will be held on Thursday, August 11, 2022, from 4 p.m. to 6 p.m. PDT. The meeting will be held in the Douglas Visitor Center (see ADDRESSES section for location address), where GSA will meet with governmental and public stakeholders to explain the project and obtain input on the scoping of the project. The meeting will be an informal open house, where visitors may come, receive information, and provide written comments.

ADDRESSES: Public Scoping Comments—You may send comments, identified by Notice PBS-2022-03, by one of the following methods:

• Email: Osmahn.Kadri@gsa.gov. Include Notice PBS-2022-03 in the subject line of the message.

• Mail: Attention: Osmahn Kadri, NEPA Project Manager, U.S. General Services Administration, c/o Potomac-Hudson Engineering, Inc., 77 Upper Rock Circle, Suite 302, Rockville MD 20850.

Meeting Location—A public scoping meeting will be held at the Douglas Visitor Center, 345 16th St, Douglas, AZ 85607.

FOR FURTHER INFORMATION CONTACT: Osmahn Kadri, 415-522-3617, Osmahn.Kadri@gsa.gov.

SUPPLEMENTARY INFORMATION:

Background

The Raul Hector Castro Land Port of Entry (RHC LPOE) is a full-service, multi-modal port, where Customs and Border Protection (CBP) currently inspects commercially-owned vehicles (COVs), privately-owned vehicles (POVs), and pedestrians at the U.S.-Mexico border in Douglas, Arizona. The RHC LPOE has been operating since 1914 and construction of the current facility began in the 1930s. The existing Main Building and the Garage were built in 1933 and are listed on the National Register of Historic Places.

The current facilities at the RHC LPOE no longer function adequately given the site constraints, steady increase in traffic, and outdated facilities and technologies. The interaction between COVs, POVs, and pedestrian traffic is also a concern at the RHC LPOE. Inadequate pathways and separations between traffic types cause safety and security issues for CBP officers and the general public. As downtown Douglas is located just north of the RHC LPOE, traffic congestion and trucks hauling hazardous materials through the city are also a concern in the community.

To improve public and worker safety and to increase the capacity at the RHC LPOE, the proposed expansion and modernization would comprise of: (1) the construction of a new port facility dedicated to COVs; and (2) expanding and modernizing the existing RHC LPOE facilities to serve as a non-commercial facility for the POVs and pedestrians. GSA intends to prepare an EIS to analyze the potential environmental impacts resulting from the proposed construction of a new commercial LPOE and expansion and modernization of the RHC LPOE.

The project would first involve the construction of a new commercial facility located approximately five miles west of the existing RHC LPOE facilities. Subsequently, expansion and modernization of the existing RHC LPOE facilities would begin and would require a multi-phase construction plan to ensure that operations are continuous and that safety and security of the RHC LPOE is maintained. The possible phasing during the expansion and modernization to the existing RHC LPOE includes:

• Phase 1.1: After a New Standalone Commercial Facility is built, transfer commercial operations to the new facility. Acquire land to north, vacate existing stores, and demolish vacated facilities associated with commercial activities.

• Phase 1.2: Build new Non-Commercial Inspection area, Main Building, Public Facing/Trusted Traveler Building, and Family Unit/Unaccompanied Juvenile Processing Facility.

• Phase 2.1: Transfer all existing Non-Commercial Operations to new Non-Commercial Facilities. Transfer existing Historic Main Building to new Main Building. Demolish Non-Commercial Inspection Lanes and prepare existing port-owned Parking Lot for upgrades.

• Phase 2.2: Build additional Main Building Parking and Outbound Facilities. Upgrade Overflow Parking Lot as needed. Remodel, relocate, or demolish existing Historic Main Building and Garage.

• Phase 3.1: Transfer existing outbound operations to new Outbound Facilities. Demolish existing Outbound Lanes. If remodeled, occupy Historic Main Building and Garage.

• Phase 3.2: Improve existing outbound Pedestrian Walkway.

Alternatives Under Consideration

The EIS will consider two “action” alternatives and one “no action” alternative. Alternative 1 consists of building a new Standalone Commercial Facility for COVs and expanding and modernizing the existing RHC LPOE as a non-commercial facility for POVs and pedestrians, as described in the above Phases. Alternative 2 includes expanding and modernizing the existing RHC LPOE only and continuing to utilize the LPOE for both commercial and non-commercial functions. Sub-alternatives may be considered for each alternative with respect to the management of the historic structures located at the existing RHC LPOE.

The “no action” alternative assumes that GSA would not expand and modernize the RHC LPOE or construct a new commercial LPOE and that operations would continue under current conditions.

The EIS will address the potential environmental impacts of the proposed alternatives on environmental resources including aesthetics, air quality during construction and operation, geology and soils, hazards and hazardous materials, hydrology and water quality, cultural resources, biological resources, land use, noise during construction and operation, utilities, and traffic. The EIS will also address the socioeconomic effects of the project as well as impacts on Environmental Justice populations.

Scoping Process

The views and comments of the public are necessary in helping to determine the scope and content of the environmental analysis. The scoping process will be accomplished through a public scoping meeting, direct mail correspondence to appropriate federal, state, and local agencies, and to private organizations and citizens who have previously expressed, or are known to have, an interest in the project.

A public scoping meeting will be announced in the local newspaper, the Herald Review. Agencies and the public are encouraged to provide written comments regarding the scope of the EIS. See information provided above for dates, addresses, and contact information.

Russell Larson,
Director, Portfolio Management Division, Pacific Rim Region, Public Buildings Service.

[FR Doc. 2022-14815 Filed 7-13-22; 8:45 am]

BILLING CODE 6820-YF-P